DEPARTMENT OF THE INTERIOR

National Park Service

Final Environmental Impact Statement, Anacapa Island Restoration Plan, Channel Islands National Park, Ventura County, California; Notice of Approval of Record of Decision

SUMMARY: (Pursuant to section 102(2)(C) of the National Environmental Policy Act of 1969 (Pub. L. 91-190, as amended) and the regulations promulgated by the Council on Environmental Quality (40 CFR 1505.2), the Department of the Interior, National Park Service has prepared and approved a Record of Decision for the Final Environmental Impact Statement/Anacapa Island Restoration Plan for Channel Islands National Park. The 30-day no-action period was initiated October 13, 2000, with the U.S. Environmental Protection Agency's Federal Register notification of the filing of the Final Environmental Impact Statement.

Decision: The National Park Service (NPS) has determined through field surveys and corroborated with researchers and other agency pest management experts that non-native black rats are having a severely deleterious effect upon unique native plants and animals on Anacapa Island. After due consideration the NPS has determined it is essential to implement aerial broadcast of the rodenticide Brodifacoum, multi-year seasonal control activities, human safety and health safeguards, monitoring, and other elements of an island-specific, comprehensive program described as “Alternative 2” as soon as practical. This course of action and five alternatives were identified and analyzed in the Final and Draft Environmental Impact Statements (former issued October 13, 2000, latter issued July 7, 2000).

Public Review and Consultation: Public scoping leading to preparation of the Draft EIS was initiated in November, 1999. A public meeting was conducted on December 8, 1999. The Draft EIS was announced on July 7, 2000; the Final EIS was announced on October 13, 2000. Meetings and availability of both EIS documents were widely publicized in local and regional print and radio media, via the internet, at area libraries, and by direct mailings. Approximately 20 comments were received overall.

In addition, the NPS consulted extensively with experts in the field of vertebrate pest ecology worldwide, conservation organizations and universities, and regulatory and resource protection agencies including the California Coastal Commission, US Army Corps of Engineers, US Fish and Wildlife Service, National Marine Fisheries Service, National Oceanic and Atmospheric Administration, and the Environmental Protection Agency.

As a result of these collaborations, five action alternatives were identified and compared, and it was further determined that Alternative 2 comprised the “environmentally preferred” alternative.

Copies: Interested parties desiring to review the Record of Decision may obtain a copy by contacting the Superintendent, Channel Islands National Park, 1901 Spinnaker Drive, Ventura, California 93001; or via telephone request at (805) 658-5700.

Dated: November 17, 2000.
John J. Reynolds,
Regional Director, Pacific West Region.

[FR Doc. 00-30148 Filed 11-24-00; 8:45 am]

BILLING CODE 4310-70-P